DEPARTMENT OF ENERGY

Federal Energy Regulatory Commission

[Docket No. RP96-389-031]

Columbia Gulf Transmission Company; Notice of Negotiated Rate Filing

September 20, 2001.

Take notice that on September 14, 2001, Columbia Gulf Transmission Company (“Columbia Gulf”) tendered for filing to the Federal Energy Regulatory Commission (“Commission”) the following contracts for disclosure of recently negotiated rate transactions:

FTS-1 Service Agreement No. 71031 between Columbia Gulf Transmission Company and EnergyUSA-TPC Corp. dated August 20, 2001

and

FTS-1 Service Agreement No. 71206 between Columbia Gulf Transmission Company and Reliant Energy Services, Inc. dated August 28, 2001

Transportation service is to commence November 1, 2001 under the Agreements.

Columbia Gulf states that copies of the filing are being made available for public inspection during regular business hours in Columbia Gulf's offices in Houston, Texas and Washington, DC, and that it has served copies of the filing on all parties identified on the official service list in Docket No. RP96-389.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24013 Filed 9-25-01; 8:45 am]

BILLING CODE 6717-01-P